DEPARTMENT OF JUSTICE

Antitrust Division

Notice Pursuant to the National Cooperative Research and Production Act of 1993—International Electronics Manufacturing Initiative

Notice is hereby given that, on December 15, 2009, pursuant to Section 6(a) of the National Cooperative Research and Production Act of 1993, 15 U.S.C. 4301 et seq. (“the Act”), International Electronics Manufacturing Initiative (“iNEMI”) has filed written notifications simultaneously with the Attorney General and the Federal Trade Commission disclosing changes in its membership. The notifications were filed for the purpose of extending the Act's provisions limiting the recovery of antitrust plaintiffs to actual damages under specified circumstances. Specifically, Elec & Eltek, Kowloon, HONG KONG-CHINA; Guangdong Shengyi Sci. Tech Co., Guangdong, PEOPLE'S REPUBLIC OF CHINA; Ibiden, Toshiba-cho, JAPAN; Pacific Insulating Material Co., Ltd., Shenzhen, PEOPLE'S REPUBLIC OF CHINA; Lenovo, Quarry Bay, HONG KONG-CHINA; and Quanta Computer Inc., Tao Yuan Shien, TAIWAN, have been added as parties to this venture.

Also, Agile Software Corporation, San Jose, CA; NanoDyamics, Inc., Buffalo, NY; Ciba, Tarrytown, NY; 3M, St. Paul, MN; Ministère du Developpement economique, de l'Innovation et de l'Exportation (Gourvernement du Quebec) Montreal, Quebec, CANADA; Motorola, Inc., Schaumburg, IL; Jabil Circuit, St. Petersburg, FL; and ERSA North America, Plymouth, WI have withdrawn as parties to this venture.

No other changes have been made in either the membership or planned activity of the group research project. Membership in this group research project remains open, and iNEMI intends to file additional written notifications disclosing all changes in membership.

On June 6, 1996, iNEMI filed its original notification pursuant to Section 6(a) of the Act. The Department of Justice published a notice in the Federal Register pursuant to Section 6(b) of the Act on June 28, 1996 (61 FR 33774).

The last notification was filed with the Department on November 4, 2008. A notice was published in the Federal Register pursuant to Section 6(b) of the Act on December 12, 2008 (73 FR 75772).

Patricia A. Brink,
Deputy Director of Operations, Antitrust Division.

[FR Doc. 2010-641 Filed 1-15-10; 8:45 am]

BILLING CODE 4410-11-M